DEPARTMENT OF THE INTERIOR

Ocean Energy Safety Advisory Committee

AGENCY: Bureau of Safety and Environmental Enforcement (BSEE), Interior.

ACTION: Notice of Renewal of the Ocean Energy Safety Advisory Committee.

SUMMARY: Following consultation with the General Services Administration, notice is hereby given that the Secretary of the Interior is renewing the Ocean Energy Safety Advisory Committee.

The Ocean Energy Safety Advisory Committee provides recommendations to the Secretary of the Interior through the Director of the Bureau of Safety and Environmental Enforcement on matters and actions relating to offshore energy safety, including but not limited to, drilling and workplace safety, well intervention and containment, and oil spill response. The Committee will also facilitate collaborative research and development, training, and execution in these and other areas relating to offshore energy safety.

FOR FURTHER INFORMATION CONTACT: Mr. Joseph R. Levine at the Bureau of Safety and Environmental Enforcement, 381 Elden Street, Herndon, Virginia 20170-4187. He can be reached by telephone at (703) 787-1033 or by electronic mail at joseph.levine@bsee.gov.

Certification

I hereby certify that the renewal of the Ocean Energy Safety Advisory Committee is in the public interest in connection with the performance of duties imposed on the Department of the Interior by 43 U.S.C. 1331 et. seq.

Dated: January 30, 2013.
Ken Salazar,
Secretary of the Interior.

[FR Doc. 2013-02524 Filed 2-5-13; 8:45 am]

BILLING CODE 4310-MR-P